DEPARTMENT OF COMMERCE

Bureau of Industry and Security

Proposed Information Collection; Comment Request; Prior Notification of Exports Under License Exception Agriculture Commodities

AGENCY: Bureau of Industry and Security.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 7, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Larry Hall, BIS ICB Liaison, (202) 482-4896, lhall@bis.doc.gov.

SUPPLEMENTARY INFORMATION:

I. Abstract

Section 906 of the Trade Sanctions Reform and Export Enhancement Act (TSRA) requires that exports of agricultural commodities, medicine or medical devices to Cuba are made pursuant to one-year licenses and that the requirements of one-year licenses shall be no more restrictive than license exceptions administered by the Department of Commerce. Exports and certain reexports of agricultural commodities are also authorized under License Exception AGR to Cuba. To meet the requirements of TSRA, BIS has imposed a prior notification procedure under License Exception Agricultural Commodities (AGR). The prior notification procedure requires exporters to complete a form BIS-748P (approved under OMB Control No. 0694-0088) and after eleven days if no U.S. Government agency objects, the exporter is free to export the items.

II. Method of Collection

Paper format.

III. Data

OMB Control Number: 0694-0123.

Form Number(s): BIS-748P.

Type of Review: Regular submission.

Affected Public: Business or other for-profit organizations; not-for-profit institutions.

Estimated Number of Respondents: 215.

Estimated Time Per Response: 58 minutes.

Estimated Total Annual Burden Hours: 208.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 2, 2008.
Gwellnar Banks,
Management Analyst, Office of the Chief Information Officer.

[FR Doc. E8-10083 Filed 5-6-08; 8:45 am]

BILLING CODE 3510-33-P